DEPARTMENT OF COMMERCE

International Trade Administration

[A-351-505]

Certain Malleable Cast Iron Pipe Fittings From Brazil: Final Results of Antidumping Administrative Review

AGENCY: Import Administration, International Trade Administration, Department of Commerce.

ACTION: Notice of Final Results of Antidumping Administrative Review.

SUMMARY: On February 8, 2000, the Department of Commerce published the preliminary results of administrative review of the antidumping duty order on certain malleable cast iron pipe fittings from Brazil. This review covers one producer/exporter, Indústria de Fundiçao Tupy Ltda., during the period May 1, 1998, through April 30, 1999.

Based on our analysis of comments received, we have made changes in the margin calculations. Therefore the final results differ from the preliminary results. The final weighted-average dumping margin is listed below in the section entitled “Final Results of the Review.”

EFFECTIVE DATE: April 24, 2000.

FOR FURTHER INFORMATION CONTACT: Thomas Schauer or Richard Rimlinger, Office of AD/CVD Enforcement 3, Import Administration, International Trade Administration, U.S. Department of Commerce, 14th Street and Constitution Avenue, NW, Washington, DC 20230; telephone (202) 482-0410 or (202) 482-4477, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (1999).

Background

On February 8, 2000, the Department published in the Federal Register the preliminary results of administrative review of the antidumping duty order on certain malleable cast iron pipe fittings from Brazil. See Certain Malleable Cast Iron Pipe Fittings From Brazil: Preliminary Results of Antidumping Administrative Review, 65 FR 6153 (preliminary results). Indústria de Fundiçao Tupy Ltda. (Tupy) submitted its case brief on March 9, 2000. No interested parties submitted rebuttal briefs. The Department has conducted this administrative review in accordance with section 751 of the Act.

Scope of Review

Imports covered by this review are shipments of certain malleable cast iron pipe fittings, other than grooved, from Brazil. In the original antidumping duty order, these products were classifiable in the Tariff Schedules of the United States, Annotated, under item numbers 610.7000 and 610.7400. These products are currently classifiable under item numbers 7307.19.00 and 7307.19.90 of the Harmonized Tariff Schedule of the United States (HTSUS).

The HTSUS item numbers are provided for convenience and customs purposes. The written description remains dispositive.

Analysis of Comment Received

Comment: Tupy contends that the Department made a clerical error by neglecting to convert two variables from a per-kilogram basis to a per-piece basis.

Department's Position: We agree with Tupy and have changed our calculations so that all prices, revenues, and expenses are on a per-piece basis.

Changes Since the Preliminary Results

Based on our analysis of the clerical error comment received, we have corrected the programming error in our preliminary results described above.

Final Results of Review

As a result of our analysis of the correction, we determine a final weighted-average margin of 0.00 percent for Tupy for the period May 1, 1998, through April 30, 1999.

Because the weighted-average dumping margin is zero, we will instruct the Customs Service to liquidate entries made during this review period without regard to dumping duties for the subject merchandise that Tupy exported.

Cash-Deposit Requirements

The following deposit requirement shall be effective upon publication of this notice of final results of review for all shipments of certain malleable cast iron pipe fittings from Brazil, entered, or withdrawn from warehouse, for consumption on or after the publication date, as provided for by section 751(a)(1) of the Act: (1) The cash-deposit rate for Tupy will be 0.00 percent; (2) for previously investigated or reviewed companies not listed above, the cash-deposit rate will continue to be the company-specific rate published for the most recent period; (3) if the exporter is not a firm covered in this or any previous reviews or the original less-than-fair-value (LTFV) investigation, but the manufacturer is, the cash-deposit rate will be the rate established for the most recent period for the manufacturer of the merchandise; and (4) if neither the exporter nor the manufacturer is a firm covered in this or any previous review, the cash-deposit rate will continue to be 5.64 percent, the “all-others” rate established in the LTFV investigation.

The deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination in accordance with sections 751(a)(1) and 777(i)(1) of the Act.

Dated: April 14, 2000.
Troy H. Cribb,
Acting Assistant Secretary for Import Administration.

[FR Doc. 00-10190 Filed 4-21-00; 8:45 am]

BILLING CODE 3510-DS-P